DEPARTMENT OF THE INTERIOR

National Park Service

Final Supplemental Environmental Impact Statement and Revised Comprehensive Management Plan, Merced Wild and Scenic River, Yosemite National Park, Madera, Mariposa, Merced, Mono & Tuolumne Counties, CA; Notice of Approval of Record of Decision

Summary: Pursuant to § 102(2)(C) of the National Environmental Policy Act of 1969 (Pub. L. 91-190, as amended) and the regulations promulgated by the Council on Environmental Quality (40 CFR 1505.2)—and in accord with instructions of the U.S. District Court—the Department of the Interior, National Park Service has prepared and approved a Record of Decision for the Final Supplemental Environmental Impact Statement and Merced River Revised Comprehensive Management Plan, Yosemite National Park. This programmatic Plan addresses NPS stewardship of an 81 mile segment of the 122 miles of the Merced River designated as “Wild and Scenic” by Congress in 1987. The requisite no-action period was initiated June 24, 2005, with the Environmental Protection Agency's Federal Register notification of the filing of the Final Supplemental Environmental Impact Statement (FSEIS).

Decision: As soon as practical the National Park Service will begin to implement the Revised Comprehensive Management Plan described as the Preferred Alternative (Alternative 2) contained in the FSEIS. This alternative was deemed to be the “environmentally preferred” alternative. This course of action and three alternatives (including no-action) were identified and analyzed in the Final and Draft Supplemental Environmental Impact Statements (the opportunity for public review of the latter was announced in the Federal Register on January 14, 2005). The full range of foreseeable environmental consequences were assessed, and appropriate mitigation measures have been identified.

Copies: Interested parties desiring to review the Record of Decision may obtain a copy by contacting the Superintendent, Yosemite National Park, P.O. Box 577, Yosemite, California 95389; or via telephone request at (209) 372-0201.

Dated: July 25, 2005.
Jonathan B. Jarvis,
Regional Director, Pacific West Region.

[FR Doc. 05-16080 Filed 8-12-05; 8:45 am]

BILLING CODE 4312-F4-P